DEPARTMENT OF THE INTERIOR

Bureau of Land Management

[LLUTG0200-L12200000-FH0000-24-1A]

Notice of Utah's Recreation Resource Advisory Council Conference Call Meeting

AGENCY: Bureau of Land Management, Interior.

ACTION: Notice of Conference Call Meeting.

SUMMARY: In accordance with the Federal Land Policy and Management Act, the Federal Advisory Committee Act, and the Federal Lands Recreation Enhancement Act, the Utah Recreation Resource Advisory Council (RecRAC) will host a conference call meeting regarding the Bureau of Land Management (BLM) Price Field Office's proposed changes to the recreational permitting system for Desolation and Gray Canyons of the Green River.

DATES: The Utah RecRAC will host a conference call meeting Monday, November 19, 2012, from 2:00 p.m. until 4:00 p.m., MST.

ADDRESSES: The public is invited to attend the meeting either via telephone or in person. Those participating via telephone must dial the toll-free number (800) 369-1890 and provide the passcode, “BLM.” Those attending in person must meet at the BLM Utah State Office, 440 West 200 South, Salt Lake City, Utah, in the Monument Conference Room on the fifth floor.

FOR FURTHER INFORMATION CONTACT: Sherry Foot, Special Programs Coordinator, Utah State Office, Bureau of Land Management, P.O. Box 45155, Salt Lake City, Utah 84145-0155; phone (801) 539-4195; sfoot@blm.gov.

SUPPLEMENTARY INFORMATION: In accordance with the Federal Lands Recreation Enhancement Act, the 15-member Utah Recreation Resource Advisory Council advises the Secretaries of the Interior and Agriculture, through the BLM and U.S. Forest Service, on the establishment and modification of recreational fees administered by these Federal agencies in Utah. The BLM Price Field Office is proposing to convert its recreational permitting system for Desolation and Gray Canyons of the Green River from a first-come, first-served call-in reservation process to an on-line lottery reservation process on the Recreation.gov Web site. Details of the proposal can be reviewed in the BLM Price Field Office's Draft Business Plan for Desolation and Gray Canyons of the Green River (http://www.blm.gov/ut/st/en/info/newsroom/2012/october/blm_price_field_office.html). A public comment period will take place immediately following the presentation outlining the proposal. Written comments may also be sent to the BLM at the address listed in the FOR FURTHER INFORMATION CONTACT section of this notice. The meeting is open to the public, however, transportation, lodging, and meals are the responsibility of the participating individuals.

Kent Hoffman,
Acting State Director.

[FR Doc. 2012-26063 Filed 10-22-12; 8:45 am]

BILLING CODE 4310-DQ-P